DEPARTMENT OF LABOR

Employment and Training Administration

[TA-W-55,495]

Tesco Technologies, LLC, Headquarters Office, Auburn Hills, Michigan; Notice of Affirmative Determination Regarding Application for Reconsideration

By application of October 22, 2004, a petitioner requested administrative reconsideration of the Department's Notice of Negative Determination Regarding Eligibility to Apply for Worker Adjustment Assistance, applicable to workers of the subject firm. The negative determination was signed on September 27, 2004. The Notice of Determination was published in the Federal Register on October 26, 2004 (69 FR 62460).

The petitioner alleges in the request for reconsideration that designs are a product and that the initial investigation should have inquired about customers' shift of production abroad.

The Department has carefully reviewed the petitioner's request for reconsideration and has determined that further investigation will be conducted to address factual discrepancies.

Conclusion

After careful review of the application, I conclude that the claim is of sufficient weight to justify reconsideration of the Department of Labor's prior decision. The application is, therefore, granted.

Signed at Washington, DC, this 7th day of December 2004.
Elliott S. Kushner,
Certifying Officer, Division of Trade Adjustment Assistance.

[FR Doc. E4-3738 Filed 12-17-04; 8:45 am]

BILLING CODE 4510-30-P